DEPARTMENT OF AGRICULTURE

Forest Service

Rangeland Allotment Management Planning on the Fall River West and Oglala Geographic Areas, Fall River and Pine Ridge Ranger Districts, Nebraska National Forest

AGENCY: Forest Service, USDA.

ACTION: Second revised notice of intent to prepare an environmental impact statement.

SUMMARY: The USDA, Forest Service, will prepare an environmental impact statement (EIS) analyzing the management of rangeland vegetation resources, which includes livestock grazing, on the National Forest System (NFS) lands within the Oglala Geographic Area (OGA) of the Oglala National Grassland on the Pine Ridge Ranger District and the West Geographic Area (WGA) of the Buffalo Gap National Grassland on the Fall River Ranger District of the Nebraska National Forest (Analysis Area) areas as mapped by the 2001 Nebraska National Forest Revised Land and Resource Management Plan (Forest Plan). A Notice of Intent (NOI) for this project was published February 22, 2008 (73 No. 36 FR 9760-9762). More than six months have elapsed since the projected draft environmental impact statement (DEIS) date in that original NOI. This revised NOI is being issued to update the project schedule. There will be a record of decision (ROD) for each geographic area.

Proposed management actions would be implemented beginning in the year 2012. The agency gives notice of the full environmental analysis and decision-making process that will occur on the proposal so interested and affected people may become aware of how they may participate in the process and contribute to the final decision.

DATES: Comments concerning the scope of the analysis must be received within 30 days after publication in the Federal Register. The draft environmental impact statement is expected February 12, 2011 and the final environmental impact statement is expected September 1, 2011.

ADDRESSES: Send written comments pertaining to this project to Carla Loop, Oglala and Fall River West Geographic Area RAMP, 125 North Main, Chadron, NE 69337. Comments may also be submitted electronically at nnfinfo@fs.fed.us. Please enter “RAMP” in the subject line.

FOR FURTHER INFORMATION CONTACT: For further information about the Oglala Geographic Area on the Oglala National Grassland call Lora O'Rourke, Co-Interdisciplinary Team Leader, at 308-432-0300. For further information about the West Geographic Area on the Buffalo Gap National Grassland, call Robert Novotny, Co-Interdisciplinary Team Leader at 605745-4107.

SUPPLEMENTARY INFORMATION: Vegetation resources on approximately 94,174 acres of NFS lands lying within the Oglala National Grassland in Sioux and Dawes Counties of northwest Nebraska, and approximately 117,548 acres of NFS lands lying within the Buffalo Gap National Grassland in Fall River County of southwest South Dakota, are being analyzed to determine if and how existing conditions differ from desired conditions outlined in the 2001 Nebraska National Forest Land and Resource Management Plan (Forest Plan).

Vegetation in the Analysis Area is characteristic of mixed-grass prairie and lesser amounts of ponderosa pine/juniper habitats. Short-grass species include blue grama, buffalograss, and upland sedges. Mid-grass species include western wheatgrass, green needlegrass, and to a lesser extent sideoats grama. Shrubs include Wyoming big sagebrush, greasewood, and yucca glauca. Some creeks transverse the area and support plains cottonwood, green ash, and willow.

A large portion of the Analysis Area evolved under a history of homesteading in the early twentieth century, and a prolonged drought period combined with the economic depression of the late 1920's and early 1930's caused many of these homesteads to fail. Starting in 1930's, land was purchased through the northwestern Nebraska and southwestern South Dakota under the Land Utilization Project initiated by the Agricultural Adjustment Administration. This continued with the Bankhead Jones Farm Tenant Act of 1937, which was designed to develop a program of land conservation. Administration of these lands was turned over to the Soil Conservation Service the following year and transferred to the United States Forest Service in 1954.

Today the Oglala and Buffalo Gap National Grasslands support and provide a variety of multiple resource uses and values. Livestock ranching operations in the area depend on National Grassland acreage to create logical and efficient management units. Cattle and sheep, in accordance with 10-year term and/or annual temporary livestock grazing permits, are currently authorized to graze the allotments within the Analysis Area. In order to determine how existing resource conditions compare to desired conditions, data from monitoring and analysis (historical and present) will be used. During the past 5-7 years, drought conditions have impacted plant vigor, canopy, and litter cover in most parts of the Analysis Area.

Purpose and Need for Action: The purpose of this project is to determine if livestock grazing will continue to be authorized on all, none, or portions, of the 41 allotments in the Fall River West GA and the 35 allotments in the Oglala GA. And if livestock grazing is to continue, how to best maintain or achieve desired conditions and meet forest plan objectives, standards and guidelines.

The action is needed to ensure that the project areas are meeting forest plan desired conditions for plant species composition, vegetation structure, and habitat for sharp-tailed grouse, sage grouse, and black-tailed prairie dog (management indicator species) and swift fox (r2 sensitive species).

There is also a need to review existing livestock management strategies and, if necessary, update them to implement 2001 Forest Plan direction and meet the requirements of section 504 of Public Law 104-19 (Rescissions Act, signed 7/27/95). The 2001 Forest Plan states that livestock grazing may occur as one of the multiple uses on the Nebraska National Forest, consistent with standards and guidelines. Livestock grazing is currently occurring in the analysis area under the direction of existing Allotment Management Plans (AMPs) and through direction provided in annual operating instructions (AOIs). The results of this analysis may require issuing or modifying grazing permits and AMPs including reductions of permitted livestock numbers and/or modifications of the grazing season. Modifications would be documented in updated term grazing permits and/or grazing agreements and associated AMPs for the allotments.

The Forest Plan identifies lands within the OGA and FRWGA as containing lands that are capable and suitable for grazing by domestic livestock. These lands are to be monitored to evaluate both implementation and effectiveness of management actions.

In all cases, vegetation management tools will be used that meet Forest Plan objectives, standards, and guidelines and that will maintain or move existing resource conditions toward desired conditions for that geographic area. If monitoring indicates that practices are being properly implemented and that resource trends are moving toward meeting desired conditions in a timely manner, management may continue unchanged. If monitoring indicates that there is a need to modify management practices, adaptive options as analyzed in the EIS will be selected and implemented.

Consultation with the U.S. Fish and Wildlife Service, as required by the Endangered Species Act (ESA), will be completed on all proposed activities.

An interdisciplinary team has been selected to do the environmental analysis, as well as prepare and accomplish scoping and public involvement activities.

Possible Alternatives: Potential alternatives include:

1. No action, No change from authorized grazing use or current situation.

2. No Grazing.

3. Livestock grazing incorporating adaptive management to meet the Forest Plan goals, objectives, standards, and guidelines.

Responsible Officials: Charlie R. Marsh, District Ranger at the Pine Ridge Ranger District, 125 North Main Street, Chadron, Nebraska 69337; and Michael E. McNeill, District Ranger at the Fall River Ranger District, 1801 Highway 18 Truck Bypass, Hot Springs, South Dakota 57747-0732 are the Responsible Officials for making the decision on this action. They will document their decision and rationale in a Record of Decision.

The Responsible Officials will consider the results of the analysis and its findings and then document their decisions in two separate Records of Decision (ROD), one for the OGA and one for the FRWGA. The decisions will determine whether or not to authorize livestock grazing on all, part, or none of the Analysis Area, and if so, what adaptive management design criteria, adaptive options, and monitoring will be implemented so as to meet or move toward the desired conditions as specified in the Forest Plan.

Nature of Decision To Be Made: The EIS is not a decision document. The purpose of the EIS document is to disclose the direct, indirect, and cumulative effects of the proposed action and other alternatives that are analyzed. After providing the public an opportunity to comment on the specific activities described in the alternatives, the Responsible Officials will review all alternatives and the anticipated environmental consequences of each in order to make the following decisions:

• Whether or not to authorize livestock grazing within the Analysis Area in whole or in part.

• If grazing is to be Authorized, (a) What grazing systems and prescribed livestock use would be implemented; (b) what structural and non-structural range improvements would be necessary; and (c) what type of monitoring program would be proposed.

• If necessary identify any “mitigation measure(s)” needed to implement the decision. Individual Allotment Management Plans (AMPs) would then be developed to incorporate conditions outlined in the Record of Decision. These AMPs will become part of each associated term permit and/or grazing agreement issued.

Public Scoping Process: Comments and input regarding this proposal were requested from the public, other groups and agencies via direct mailing on March 10, 2008. Comments received during this first scoping process have been made part of the project record and will be addressed in the analysis process. With this revised NOI, additional comments will be accepted 30 days from the publication date of the notice in the Federal Register. Anyone who has or will provide comments to the draft EIS or expresses interest during the comment period will have standing in the process.

Public involvement will be especially important at several points during the analysis, beginning with the scoping process. The Forest Service will seek information, comments, and assistance from Federal, State, local agencies, tribes, and other individuals or organizations that may be interested in, or affected by, the proposal. The scoping activities will include: (1) Engaging potentially affected or interested parties by written correspondence, (2) contacting those on our Forest media list, and (3) hosting public information meeting(s).

Preliminary Issues: Preliminary issues include:

Effects of proposed management strategies on natural ecosystems. This includes elements such as native and desirable nonnative plant and animal communities, black-tailed prairie dog management, riparian areas, upland grasslands, wooded draws, ponderosa pine forested areas, areas of hazardous fuels, and threatened, endangered, sensitive, and management indicator species.

Social-economic effects (positive or negative) on livestock grazing permittees and the local economy from changes in livestock management.

Effects of proposed livestock grazing strategies on recreational activities and/or experiences. Comment Requested: This notice of intent initiates the formal scoping process that guides the development of the environmental impact statement.

Early Notice of Importance for Public Participation in Subsequent Environmental Review: A draft environmental impact statement (DEIS) will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Hams, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the document. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: June 2, 2010.
Charles R. Marsh,
District Ranger, Pine Ridge Ranger District.
Dated: June 2, 2010.
Michael E. McNeill,
District Ranger, Fall River Ranger District.

[FR Doc. 2010-13979 Filed 6-10-10; 8:45 am]

BILLING CODE 3410-11-M